DEPARTMENT OF COMMERCE

National Oceanic and Atmospheric Administration

DEPARTMENT OF THE INTERIOR

Fish and Wildlife Service

[Docket No. 000404094-1144-02]

RIN 0648-ZA84

Improved Methods for Ballast Water Treatment and Management and Lake Champlain Canal Barrier Demonstration: Request for Proposals for FY 2001

AGENCIES: National Sea Grant College Program, National Oceanic and Atmospheric Administration, Department of Commerce and Fish and Wildlife Service, Department of the Interior.

ACTION: Notice of request for proposals.

SUMMARY: The purpose of this notice is to advise the public that the National Sea Grant College Program (Sea Grant) and the U.S. Fish and Wildlife Service (Service) are entertaining proposals to participate in innovative research, outreach, and demonstration projects that address the problems of aquatic invasive species in U.S. waters. In FY 2001 only, Sea Grant expects to make available about $800,000, and the Service $300,000, to support projects to improve ballast water treatment and management in the Chesapeake Bay and the Great Lakes in particular (Sea Grant), and in U.S. coastal and Great Lakes waters in general (Service). Also in FY 2001 only, Sea Grant expects to make available about $95,000 to support projects to reduce the transport of invasive species through the Lake Champlain Canal.

DATES: The deadline for receipt of proposals at the National Sea Grant Office (NSGO) is 5 p.m. EDT, July 24, 2001. Note that late-arriving applications provided to a delivery service on or before July 23, 2001, with delivery guaranteed before 5 p.m. EDT, July 24, 2001, will be accepted for review if the applicant can document that the application was provided to the delivery service with delivery to the address listed below (see ADDRESSES) guaranteed prior to the specified closing date and time; and in any event, the proposals are received in the NSGO by 5 p.m. EDT, no later than 2 business days following the closing date. Facsimile transmissions and electronic mail submission of proposals will not be accepted. We anticipate that funding decisions will be made by August 31, 2001, and that successful applicants will be able to initiate projects approximately November 1, 2001.

ADDRESSES: Proposals must be submitted to the National Sea Grant Office at: National Sea Grant College Program, R/SG, Attn: Ballast Water Competition, Room 11841, NOAA, 1315 East-West Highway, Silver Spring, MD 20910 (phone number for express mail applications is 301-713-2435).

FOR FURTHER INFORMATION CONTACT: Leon M. Cammen, Invasive Species Coordinator, National Sea Grant College Program, R/SG, NOAA, 1315 East-West Highway, Silver Spring, MD 20910, or Mary Robinson, Secretary, National Sea Grant Office, 301-713-2435; facsimile 301-713-0799; or Sharon Gross, U.S. Fish and Wildlife Service, 703-358-1718; facsimile 703-358-2044.

SUPPLEMENTARY INFORMATION:

I. Program Authority

Authority: 16 U.S.C. 4701 et seq.; 33 U.S.C. 1121-1131.

Catalog of Federal Assistance Number: 11.417, Sea Grant Support; 15.FFA, Fish and Wildlife Management Assistance.

II. Program Description

Background

Nonindigenous species introductions are increasing in frequency and causing substantial damage to the Nation's environment and economy. Although the most prominent of these introductions in the aquatic environment has been the zebra mussel, many other nonindigenous species have been introduced and have truly become a nationwide problem that threatens many aquatic ecosystems. While some intentional introductions may have had beneficial effects, many other nonindigenous species already present in U.S. waters, or with the potential to invade, may cause significant damage to coastal resources and the economies that depend upon them. In response, the Nonindigenous Aquatic Nuisance Prevention and Control Act of 1990 (16 U.S.C. 4701 et seq.) and the National Invasive Species Act of 1996 (16 U.S.C. 4711-4714) (collectively, the Acts) established a framework for the Nation to address the problems of aquatic nuisance species invasions of coastal and Great Lakes ecosystems.

In addition, the Acts recognized the serious threat posed by ballast water discharge in causing new invasions and called for ballast water management demonstration programs. A 1996 National Research Council study of the ballast water problem, “Stemming the Tide,” concluded that with the growth of global shipping, and the changes in modern shipping practices, introductions of nonindigenous species through ballast water discharge were likely to remain a serious problem. The study called for the development of improved technology for the management of ballast water to eliminate this threat to the Nation's ecosystems. Several projects are under way demonstrating the usefulness of various technologies, and the possibility that there will be a single solution that is acceptable for all modes of shipping operations and classes of vessels is unlikely.

In addition, vessels that declare No Ballast On Board (NOBOB) may still pose a potential risk for introducing nonindigenous species by reballasting into tanks containing residual ballast (including sediments) and subsequently discharging this mixture into the receiving waters. Although the concern has been most strongly expressed with respect to the Great Lakes, residual water and sediment also represent a potential problem in other regions of the country.

In addition to the potential for introductions of nonindigenous species from large ships, the spread of existing invasions is a major cause for concern. The Champlain Canal, opened just over 80 years ago, connects Lake Champlain with the Hudson River. In recent years it has served as the probable point of entry to Lake Champlain for several invading species, including the sea lamprey, the zebra mussel, the white perch, and the water chestnut. Planning has been under way for almost 10 years to construct a barrier at the Hudson River end of the canal that would prevent invasive species from entering the canal, but be harmless to humans.

Funding Availability and Priorities

(1) Ballast Water Treatment and Management

The National Sea Grant College Program of the National Oceanic and Atmospheric Administration (NOAA) of the Department of Commerce (DOC) and the U.S. Fish and Wildlife Service of the Department of the Interior (DOI) encourage proposals that address one of the following three program areas:

(a) Research to develop workable and effective methods to eliminate nonindigenous species introductions from ballast water without imposing undue hardships on the shipping industry. Possible approaches include (but are not limited to) development and/or demonstration of ship-board or on-shore technologies for treatment or management of ballast water. Projects that include on-vessel demonstrations of feasibility will be given priority.

(b) Research and/or synthesis of existing information and measurements to develop a set of ballast water effluent standards and/or test methods that can be used to evaluate the effectiveness of ballast water exchange and other technologies or treatments that may be developed, such that by meeting such a standard, any ballast water pumped into the environment would not pose an unacceptable risk of introduction of nonindigenous species to the receiving waters.

(c) Research and/or synthesis of information and measurements to determine the risk of the introduction of nonindigenous species to the receiving waters from vessels carrying residual ballast (also known as vessels declaring No Ballast On Board, or NOBOB). Research should include consideration of vessels that have reballasted into tanks containing residual ballast and subsequently discharged this mixture into the receiving waters. Studies that examine the risks of introductions by NOBOBs, through analyses of shipping patterns and biological components, would be useful in developing preventative technology and practices. An approach that compared NOBOB patterns and risks in the Great Lakes and Chesapeake Bay would be very useful, as the Chesapeake could serve as a model for other U.S. coastal port systems.

The National Sea Grant College Program will support only those ballast water projects that clearly target ballast water management issues in the Chesapeake Bay and/or the Great Lakes, but investigators located outside those regions may participate if all demonstrations are carried out in the targeted regions. About $800,000 is available from Sea Grant to support these activities in FY 2001. Federal funding is limited to a maximum of $350,000 for each individual project; matching funds may also be included, but are not required. Proposals are limited to 1 year of funding, but activities may extend for up to 2 years; an annual report showing satisfactory progress must be submitted at he end of the first year. Project activities should include identified milestones for each project year. The Department of Commerce will reimburse Recipients for the Federal share of the total allocable indirect costs of their awards based on the negotiated rate with the cognizant Federal agency as established by audit or negotiation.

The U.S. Fish and Wildlife Service will support projects that address ballast water management issues anywhere in coastal waters of the United States. About $300,000 is available to support these activities in FY 2001. The Federal funding requested for individual projects may not exceed $150,000; matching funds may also be included, but are not required. The indirect cost rate may not exceed 15 percent of direct costs. Proposals are limited to 1 year of funding, but activities may extend for up to 2 years; an annual report showing satisfactory progress must be submitted at the end of the first year. Project activities should include identified milestones for each project year.

(2) Lake Champlain Canal Barrier Demonstration

The National Sea Grant College Program encourages proposals that address the following program area: Research and engineering studies or demonstrations that further the goal of constructing a safe, effective barrier to prevent organisms from entering Lake Champlain through the Champlain Canal.

About $95,000 is available from Sea Grant to support these activities in FY 2001; matching funds may also be included, but are not required. Proposals are limited to 1 year of funding, but activities may extend for up to 2 years; an annual report showing satisfactory progress must be submitted at the end of the first year. Project activities should include identified milestones for each project year. The Department of Commerce will reimburse Recipients for the Federal share of the total allocable indirect costs of their awards based on the negotiated rate with the cognizant Federal agency as established by audit or negotiation.

III. Eligibility

Eligible applicants are individuals, institutions of higher education, other nonprofits, commercial organizations, foreign governments, organizations under the jurisdiction of foreign governments, international organizations, state, local and Indian tribal governments. Applications from non-Federal and eligible Federal applicants (including NOAA employees) will be competed against each other. Proposals selected for funding from non-Federal applicants will be funded through a project grant or cooperative agreement under the terms of this notice. Federal agencies will be funded through an inter-agency transfer.

Please Note: A Federal applicant will be considered eligible only if it can demonstrate that it has legal authority to receive funds from another Federal agency in excess of its appropriation. The Economy Act (31 U.S.C. 1535) will not be considered as legal authority to transfer funds since awards issued under this announcement will not constitute a purchase of goods or services by DOC or DOI.

IV. Evaluation Criteria

The evaluation criteria for proposals submitted for support under this announcement are as follows:

(1) Impact of Proposed Project (60% for “Ballast Water Treatment and Management”; 70% for “Lake Champlain Barrier Demonstration”): The effect this activity will have on reducing the impact of invasive species on the environment and/or the economy, or the need for this activity as a necessary step toward such a reduction in impact; and the degree to which potential users of the results of the proposed activity have been involved in planning the activity and will be involved in the execution of the activity appropriate, including provision of matching funds.

(2) Scientific or Professional Merit (25% for “Ballast Water Treatment and Management”; 30% for “Lake Champlain Barrier Demonstration”): Degree to which the activity will advance the state of the science or discipline through synthesis of existing information and use and extension of cutting edge as well as state-of-the-art methods; degree to which new approaches to solving problems and exploiting opportunities in resource management or development, or in public outreach on such issues will be employed; degree to which investigators are qualified by education, training, and/or experience to execute the proposed activity; and record of achievement with previous funding.

(3) On-Vessel Demonstration (15% for “Ballast Water Treatment and Management” only): Inclusion of field-scale ship-aboard demonstration for projects proposing to develop ballast water treatment technologies or practices.

V. Selection Procedures

Proposals will be subjected to peer review and ranked in accordance with the assigned weights of the above evaluation criteria by an independent panel consisting of government, academic, and industry experts. Panel members will provide individual evaluations on each proposal; there will be no consensus advice. Their recommendations and evaluations will be considered by the Federal Program Officers for Sea Grant and the Service who will: (a) Ascertain which proposals best meet the program priorities, as described in Section II under Funding Availability and Priorities, giving consideration to geographic distribution and representation, maintaining a balanced program of research, and not substantially duplicating other projects that are currently funded or are approved for funded by NOAA, DOI, and other State and Federal agencies (hence, awards may not necessarily be made to the highest-scored proposal); (b) select the proposals to be funded; (c) determine which components of the selected projects will be funded; (d) determine the total duration of funding for each proposal; and (e) determine the amount of funds available for each proposal. Investigators may be asked to modify objectives, work plans, or budgets prior to final approval of the award. Subsequent grant administration procedures will be in accordance with current DOC or DOI grants procedures. A summary statement of the scientific review by the peer panel will be provided to each applicant.

VI. Application Format

Although investigators are not required to submit more than 3 copies of each proposal, the normal review process requires 10 copies. Investigators are encouraged to submit sufficient copies for the full review process, if it does not cause a financial hardship, if they wish all reviewers to receive color, unusually sized (not 8.5″×11″), or otherwise unusual materials submitted as part of the proposal. Only three copies of the Federally required forms are needed. Facsimile transmissions and electronic mail submission of proposals will not be accepted.

All pages should be single- or double-spaced, typewritten in at least a 10-point font, and printed on metric A4 (210 mm×297 mm) or 8.5″×11″ paper. Brevity will assist reviewers and program staff in dealing effectively with proposals. Therefore, the Project Description may not exceed 15 pages. Tables and visual materials, including figures, charts, graphs, maps, photographs, and other pictorial presentations, are included in the 15-page limitation for the Project Description; letters of support, if any, are not included in the 15-page limitation. Conformance to the 15-page limitation will be strictly enforced. All information needed for review of the proposal should be included in the main text; no appendices, other than support letters, if any, are permitted. Failure to adhere to the above limitations will result in the proposal being rejected without review.

(1) Signed Title Page: The title page should be signed by the Principal Investigator and the institutional representative. The Principal Investigators and collaborators and the institutional representative should be identified by affiliation and contact information. The total amount of Federal funds being requested should be listed for each budget period; for projects involving multiple institutions, the total should include all subrecipient budgets.

(2) Project Summary: This information is very important. Prior to attending the peer review panel meetings, some of the panelists may read only the project summary. Therefore, it is critical that the project summary accurately describes the research being proposed and conveys all essential elements of the research. Applicants are encouraged to use the Sea Grant Project Summary Form 90-2, but may use their own form as long as it provides the following information: 1. Title: Use the exact title as it appears in the rest of the application. 2. Investigators: List the names and affiliations of each investigator who will significantly contribute to the project. Start with the Principal Investigator. 3. Funding: Funding request for each year of the project, including matching funds if appropriate. 4. Project Period: Start and completion dates. Proposals should request a start date of November 1, 2001, or later. 5. Project Summary: This should be a brief statement of the rationale for the project, the scientific or technical objectives and/or hypotheses to be tested, and a summary of work to be completed.

(3) Project Description (15-page limit): (a) Introduction/Background/Justification: Subjects that the investigator(s) may wish to include in this section are: (i) Current state of knowledge; (ii) contributions that the study will make to the particular discipline or subject area; (iii) contributions and impacts the study will make toward reducing the problem of aquatic invasive species; and (iv) as appropriate, contributions of investigator's previously funded research results to current proposal.

(b) Research or Technical Plan: (i) Objectives to be achieved, hypotheses to be tested; (ii) plan of work—discuss how stated project objectives will be achieved; and (iii) role of project personnel.

(c) Results/Output: Describe the project results/output and impacts that will enhance the Nation's ability to reduce the impacts of aquatic invasive species.

(d) Coordination with other Program Elements: Describe any coordination with other agency programs or ongoing research efforts. Describe any other proposals that are essential to the success of this proposal.

(e) Vessel Selection (if appropriate): Applications proposing on-board demonstrations of ballast water management should address the requirements and priorities listed in the National Invasive Species Act of 1996 (16 U.S.C. 4711-4714) for selecting vessels for demonstration projects. These requirements are available through the Sea Grant web site (www.nsgo.seagrant.org/research/nonindigenous/RFP01.html) or from Dr. Leon Cammen at the National Sea Grant Office (phone: 301-713-2435 x136 or e-mail: leon.cammen@noaa.gov).

(4) Literature Cited

(5) Budget and Budget Justification: There should be a separate budget for each year of the project as well as a cumulative annual budget for the entire project. Applicants are encouraged to use the Sea Grant Budget Form 90-4, but may use their own form as long as it provides the same information as the Sea Grant form. Subcontracts should have a separate budget page. Matching funds must be indicated if provided. Applicants should provide justification for all budget items in sufficient detail to enable the reviewers to evaluate the appropriateness of the funding requested. For those applications to be supported by the Service, the indirect cost rate may not exceed 15 percent of direct costs. For those applications to be supported by Sea Grant, the Department of Commerce will reimburse Recipients for the Federal share of the total allocable indirect costs of their awards based on the negotiated rate with the cognizant Federal agency as established by audit or negotiation.

(6) Current and Pending Support: Applicants must provide information on all current and pending Federal support for ongoing projects and proposals, including subsequent funding in the case of continuing grants. The proposed project and all other projects or activities using Federal assistance and requiring a portion of time of the principal investigator or other senior personnel should be included. The relationship between the proposed project and these other projects should be described, and the number of person-months per year to be devoted to the projects must be stated. Similar information must be provided for all proposals already submitted or submitted concurrently to other possible sponsors, including those within the Departments of Commerce and the Interior.

(7) Vitae (2 pages maximum per investigator).

(8) Standard Application Forms: Applicants may obtain all required application forms through the Sea Grant web site: (www.nsgo.seagrant.org/research/rfp/index.html#3) or from Dr. Leon M. Cammen at the National Sea Grant Office (phone: 301-713-2435 x136 or e-mail: leon.cammen@noaa.gov).

(a) Standard Forms 424, Application for Federal Assistance, and 424B, Assurances—Non-Construction Programs, (Rev 4-88). Please note that both the Principal Investigator and an administrative contact should be identified in Section 5 of the SF424. For Section 10, applicants should enter either “11.417” for the CFDA Number and “Sea Grant Support” for the title or “15.FFA” for the CFDA Number and “Fish and Wildlife Management Assistance” for the title depending on the agency that will be supporting the project. The form must contain the original signature of an authorized representative of the applying institution.

(b) Primary Applicant Certifications. All primary applicants must submit a completed Form CD-511, “Certifications Regarding Debarment, Suspension and Other Responsibility Matters; Drug-Free Workplace Requirements and Lobbying”, and the following explanations are hereby provided:

(i) Non-Procurement Debarment and Suspension. Prospective participants (as defined at 15 CFR Part 26, Section 105) are subject to 15 CFR Part 26, “Non-Procurement Debarment and Suspension” and the related section of the certification form prescribed above applies;

(ii) Drug-Free Workplace. Grantees (as defined at 15 CFR Part 26, Section 605) are subject to 15 CFR Part 26, Subpart F, “Government-wide Requirements for Drug-Free Workplace (Grants)” and the related section of the certification form prescribed above applies;

(iii) Anti-Lobbying. Persons (as defined at 15 CFR Part 28, Section 105) are subject to the lobbying provisions of 31 U.S.C. 1352, “Limitation on use of appropriated funds to influence certain Federal contracting and financial transactions”, and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities”, as required under 15 CFR Part 28, Appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities”. Form CD-512 is intended for the use of recipients and should not be transmitted to DOC. SF-LLL submitted by any tier recipient or subrecipient should be submitted to DOC in accordance with the instructions contained in the award document.

VII. Other Requirements

(1) Federal Policies and Procedures—Recipients and subrecipients and subject to all Federal laws and Federal, DOC, and DOI policies, regulations, and procedures applicable to Federal financial assistance awards.

(2) Past Performance—Unsatisfactory performance under prior Federal awards may result in an application not being considered for funding.

(3) Pre-Award Activities—If applicants incur any costs prior to an award being made, they do so solely at their own risk of not being reimbursed by the Government. Notwithstanding any verbal or written assurance that may have been received, there is no obligation on the part of DOC or DOI to cover pre-award costs.

(4) No Obligation for Future Funding—If an application is selected for funding, DOC and DOI have no obligation to provide any additional future funding in connection with that award. Renewal of an award to increase funding or extend the period of performance is at the total discretion of DOC or DOI.

(5) Delinquent Federal Debts—No award of Federal funds shall be made to an applicant who has an outstanding delinquent Federal debt until either:

(a) The delinquent account is paid in full,

(b) A negotiated repayment schedule is established and at least one payment is received or

(c) Other arrangements satisfactory to DOC or DOI are made.

(6) Name Check Review—All non-profit and for-profit applicants are subject to a name check review process. Name checks are intended to reveal if any key individuals associated with the applicant have been convicted of or are presently facing criminal charges such as fraud, theft, perjury, or other matters that significantly reflect on the applicant's management honesty or financial integrity.

(7) False Statements—A false statement on an application is grounds for denial or termination of funds and grounds for possible punishment by a fine or imprisonment as provided in 18 U.S.C. 1001.

(8) Purchase of American-Made Equipment and Products—Applicants are hereby notified that they will be encouraged, to the greatest extent practicable, to purchase American-made equipment and products with funding provided under this program.

(9) Pursuant to Executive Orders 12876, 12900, and 13021, DOC/NOAA is strongly committed to broadening the participation of Historically Black Colleges and Universities (HBCU), Hispanic Serving Institutions (HSI), and Tribal Colleges and Universities (TCU) in its educational and research programs. The DOC/NOA vision, mission, and goals are to achieve full participation by Minority Serving Institutions (MSI) in order to advance the development of human potential, to strengthen the Nation's capacity to provide high-quality education, and to increase opportunities for MSIs to participate in and benefit from Federal Financial Assistance programs. DOC/NOAA encourages all applicants to include meaningful participation of MSIs. Institutions eligible to be considered HBCU/MSIs are listed at the following Internet website: http://www.ed.gov/offices/OCR/99minin.html.

(10) For awards receiving funding for the collection or production of geospatial data (e.g., GIS data layers), the recipient will comply to the maximum extent practicable with E.O. 12906, Coordinating Geographic Data Acquisition and Access, The National Spatial Data Infrastructure, 59 FR 17671 (April 11, 1994). The award recipient must document all new geospatial data collected or produced using the standard developed by the Federal Geographic Data Center and make that standardized documentation electronically accessible. The standard can be found at the following Internet website: (http://www.fgdc.gov/standards/standards/html).

Classification

Prior notice and an opportunity for public comments are not required by the Administrative Procedure Act or any other law for this notice concerning grants, benefits, and contracts (See 5 U.S.C. 553(a)(2)). Therefore, a regulatory flexibility analysis is not required for purposes of the Regulatory Flexibility Act, 5 U.S.C. 601 et seq.

This action has been determined to be not significant for purposes of E.O. 12866.

This notice contains collection-of-information requirements subject to the Paperwork Reduction Act. The Sea Grant Budget Form, 90-4, and Sea Grant Summary Form, 90-2, have been approved under Office of Management and Budget (OMB) control number 0648-0362, with estimated times per response of 20 and 15 minutes respectively. The use of Standard Forms 424, 424b, and SF-LLL have been approved by OMB under the respective control numbers 0348-0043, 0348-0040, and 0348-0046. The response time estimates above include the time for reviewing instructions, searching existing data sources, gathering and maintaining the data needed, and completing and reviewing the collection of information. Send comments on these estimates or any other aspect of these collections to the National Sea Grant College Program, R/SG, NOAA, 1315 East-West Highway, Silver Spring, MD 20910 (Attention: Francis M. Schuler). Notwithstanding any other provision of the law, no person is required to respond to, nor shall any person be subject to a penalty for failure to comply with, a collection of information subject to the requirements of the Paperwork Reduction Act, unless that collection of information displays a currently valid OMB Control Number.

Dated: June 18, 2001.
Louisa Koch,
Deputy Assistant Administrator, Office of Oceanic and Atmospheric Research, National Oceanic and Atmospheric Administration.
Dated: June 11, 2001.
Cathleen Short,
Assistant Director—Fisheries and Habitat Conservation, Fish and Wildlife Service.

[FR Doc. 01-15646 Filed 6-20-01; 8:45 am]

BILLING CODE 3510-KA-M